ENVIRONMENTAL PROTECTION AGENCY

[EPA-HQ-OW-2012-0803, FRL-9903-83-OW]

Draft National Pollutant Discharge Elimination System (NPDES) General Permit for Stormwater Discharges From Industrial Activities; Extension of Comment Period

AGENCY: Environmental Protection Agency (EPA).

ACTION: Notice; extension of public comment period.

SUMMARY: On September 27, 2013 the EPA Regions 1, 2, 3, 5, 6, 7, 8, 9, and 10 published a request for comments on EPA's draft 2013 National Pollutant Discharge Elimination System (NPDES) general permit for stormwater discharges from industrial activity, also referred to as the Multi-Sector General Permit (MSGP).

As initially published in the Federal Register, written comments were to be submitted to the EPA on or before November 26, 2013 (a 60-day public comment period). Since publication, the EPA has received a request for additional time to submit comments. Therefore, the EPA is extending the public comment period for 30 days until December 26, 2013.

DATES: The public comment period for the review published September 27, 2013 (79 FR 59672) is being extended for 30 days to December 26, 2013 in order to provide the public additional time to submit comments and supporting information.

ADDRESSES: Comments: Submit your comments, identified by Docket ID No. EPA-HQ-OW-2012-0803, by one of the following methods:

• http://www.regulations.gov: Follow the on-line instructions for submitting comments.

• Email: waterdocket@epa.gov, Attention Docket ID No. EPA-HQ-OW-2012-0803.

• Fax: (202) 566-9744

• Mail: Water Docket, Environmental Protection Agency, Mailcode: 28221T, Attention Docket ID No. EPA-HQ-OW-2012-0803, 1200 Pennsylvania Ave. NW., Washington, DC 20460.

• Hand Delivery: EPA Docket Center, EPA West, Room 3334, 1301 Constitution Avenue NW., Washington, DC, Attention Docket ID No. EPA-HQ-OW-2012-0803. Such deliveries are accepted only during the Docket Center's normal hours of operation, and special arrangements should be made for deliveries of boxed information.

Instructions: Direct your comments to Docket ID No. EPA-HQ-OW-2012-0803. The EPA's policy is that all comments received will be included in the public docket without change and could be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means that the EPA will not know your identity or contact information unless you provide it in the body of your comment. If you send an email comment directly to the EPA without going through www.regulations.gov your email address will be automatically captured and included as part of the comment that is placed in the public docket and made available on the Internet. If you submit an electronic comment, the EPA recommends that you include your name and other contact information in the body of your comment and with any disk or CD-ROM you submit. If the EPA cannot read your comment because of technical difficulties and cannot contact you for clarification, the EPA might not be able to consider your comment. Electronic files should avoid the use of special characters, any form of encryption, and be free of any defects or viruses. For additional information about the EPA's public docket visit the EPA Docket Center homepage at http://www.epa.gov/epahome/dockets.htm. For additional instructions on submitting comments, go to the SUPPLEMENTARY INFORMATION section of this document.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Water Docket, EPA/DC, EPA West, Room 3334, 1301 Constitution Ave. NW., Washington, DC 20004. The Public Reading Room is open from 8:30 a.m. to 4:30 p.m., Monday through Friday, excluding federal holidays. The telephone number for the Public Reading Room is (202) 566-1744, and the telephone number for the Water Docket is (202) 566-2426.

FOR FURTHER INFORMATION CONTACT: For additional information contact, Bryan Rittenhouse, Office of Wastewater Management (4203M), U.S. Environmental Protection Agency, 1200 Pennsylvania Ave. NW., Washington, DC 20460; telephone number: (202) 564-0577; fax number: (202) 564-6384; email address: rittenhouse.bryan@epa.gov.

SUPPLEMENTARY INFORMATION:

I. General Information

The draft permit, once finalized, will replace the previous permit covering stormwater discharges from industrial facilities in EPA's Regions 1, 2, 3, 5, 6, 9, and 10 that expired September 29, 2013, and will provide coverage for industrial facilities in areas where EPA is the NPDES permitting authority in EPA's Regions 7 and 8. This draft permit is similar to the previous permit and will authorize the discharge of stormwater in accordance with the terms and conditions described therein. EPA proposes to issue this permit for five (5) years. EPA seeks comment on the draft permit and on the accompanying fact sheet.

II. Extension of Comment Period for the NPDES Draft Multi-Sector General Permit

The EPA is extending the deadline for submitting comments on the draft NPDES stormwater Multi-Sector General Permit (MSGP) to December 26, 2013. The original deadline for comments, based on a 60-day comment period, was November 26, 2013. The EPA's decision responds to a request to extend the comment deadline. The EPA believes that this 30-day extension will assist in providing an adequate amount of additional time for the public to review the action and to provide written comments.

Dated: November 25, 2013.
H. Curtis Spalding,
Regional Administrator, EPA Region 1.
Dated: November 20, 2013.
Jose C. Font,
Director, Caribbean Environmental Protection Division, EPA Region 2.
Dated: November 20, 2013.
Jon M. Capacasa,
Director, Water Protection Division, EPA Region 3.
Dated: November 19, 2013.
Tinka G. Hyde,
Director, Water Division, EPA Region 5.
Dated: November 19, 2013.
William K. Honker,
Director, Water Quality Protection Division, EPA Region 6.
Dated: November 20, 2013.
Karen Flournoy,
Director, Water, Wetlands, and Pesticides Division, EPA Region 7.
Dated: November 19, 2013.
Howard M. Cantor,
Deputy Regional Administrator, EPA Region 8.
Dated: November 19, 2013.
Jane Diamond,
Director, Water Division, EPA Region 9.
Dated: November 19, 2013.
Daniel D. Opalski,
Director, Office of Water and Watersheds, EPA Region 10.

[FR Doc. 2013-28988 Filed 12-2-13; 8:45 am]

BILLING CODE 6560-50-P